GENERAL SERVICES ADMINISTRATION

41 CFR Part 302-4

[FTR Amendment 2007-06; FTR Case 2007-306; Docket 2007-0002, Sequence 5]

RIN 3090-AI40

Federal Travel Regulation; Relocation Allowances; OCONUS Travel

AGENCY: Office of Governmentwide Policy, General Services Administration (GSA).

ACTION: Final rule.

SUMMARY: Federal Travel Regulation (FTR) Amendment 2007-03, FTR Case 2007-301 was published in the Federal Register on June 27, 2007 (72 FR 35187). That final rule changed the mileage reimbursement rate for using a personally owned vehicle (POV) for relocation to equal the Internal Revenue Service (IRS) Standard Mileage Rate for moving purposes in the continental United States (CONUS). Subsequent information revealed that in changing to this rate, GSA inadvertently removed any ability to apply this rate to both foreign and non-foreign overseas (OCONUS) relocations. This final rule will allow for the new mileage reimbursement rate to be applied worldwide. It will also allow for the use of actual expense for OCONUS relocations if the agency chooses to do so. The FTR and any corresponding documents may be accessed at GSA's website at http://www.gsa.gov/ftr.

DATES: Effective Date: This final rule is effective December 11, 2007. Applicability Date: This final rule is applicable to September 25, 2007.

FOR FURTHER INFORMATION CONTACT: The Regulatory Secretariat (VIR), Room 4035, GS Building, Washington, DC, 20405, (202) 501-4755, for information pertaining to status or publication schedules. For clarification of content, contact Mr. Ed Davis, Office of Governmentwide Policy (M), Office of Travel, Transportation and Asset Management (MT), General Services Administration at (202) 208-7638 or e-mail at ed.davis@gsa.gov. Please cite FTR Amendment 2007-06; FTR case 2007-306.

SUPPLEMENTARY INFORMATION:

A. Background

On June 27, 2007, GSA published a final rule specifying that the IRS Standard Mileage Rate for moving purposes would be the rate at which agencies will reimburse an employee for using a POV for CONUS relocation.

The final rule, published in the Federal Register on June 27, 2007 (72 FR 35187) clearly limited the scope of the rule to CONUS relocations. Research since that date, in response to an inquiry from the Department of Defense (DoD), has shown that this was a mistake. Therefore, this new final rule removes any reference to CONUS from section 302-4.300 of the FTR and allows for this rate to be applied worldwide. The FTR also will authorize actual expense for these expenses.

B. Summary of the Issues Involved

This final rule corrects an inadvertent error, and allows for the reimbursement of OCONUS relocation mileage at either the mileage rate specified in FTR section 302-4.300 or actual expense under new section 302-4.304. In addition, FTR section 302-4.302 currently allows an agency to authorize a higher mileage reimbursement rate for OCONUS relocations utilizing a POV under certain circumstances. Thus, agencies will have three choices for reimbursing an OCONUS relocation mileage reimbursement rate for POV usage. Each agency through its internal policy, must decide what form its relocation mileage reimbursement rate will take. But, before any agencies can have a legitimately based OCONUS rate, GSA must change the wording of the June 27, 2007 final rule to allow agencies to use the IRS rate worldwide.

C. Changes to Current FTR

This final rule revises section 302-4.300 of the FTR to reflect the Internal Revenue Service Standard Mileage Rate for relocation by POV and adds section 302-4.304 allowing for actual expense.

D. Executive Order 12866

This regulation is excepted from the definition of “regulation” or “rule” under Section 3(d)(3) of Executive Order 12866, Regulatory Planning and Review, dated September 30, 1993 and, therefore, was not subject to review under Section 6(b) of that executive order.

E. Regulatory Flexibility Act

This final rule is not required to be published in the Federal Register for notice and comment; therefore, the Regulatory Flexibility Act, 5 U.S.C. 601, et seq., does not apply.

F. Paperwork Reduction Act

The Paperwork Reduction Act does not apply because the changes to the FTR do not impose recordkeeping or information collection requirements, or the collection of information from offerors, contractors, or members of the public that require the approval of the Office of Management and Budget under 44 U.S.C. 3501, et seq.

E. Small Business Regulatory Enforcement Fairness Act

This final rule is also exempt from congressional review prescribed under 5 U.S.C. 801 since it relates solely to agency management and personnel.

List of Subjects in 41 CFR Part 302-4

Government employees, Relocation, Travel and transportation expenses.

Dated: September 27, 2007.
Lurita Doan,
Administrator of General Services.

For the reasons set out in this preamble, 41 CFR part 302-4 is amended as set forth below:

PART 302-4—ALLOWANCES FOR SUBSISTENCE AND TRANSPORTATION

1. The authority citation for 41 CFR part 302-4 continues to read as follows:

Authority: 5 U.S.C. 5738; 20 U.S.C. 905(a); E.O. 11609, 36 FR 13747, 3 CFR, 1971-1973 Comp., p. 586.

2. Revise § 302-4.300 to read as follows:

§ 302-4.300 What is the POV mileage rate for PCS travel?

For approved/authorized PCS travel by POV, the mileage reimbursement rate is the same as the moving expense mileage rate established by the Internal Revenue Service (IRS) for moving expense deductions. See IRS guidance available on the Internet at www.irs.gov. GSA publishes the rate for mileage reimbursement in an FTR Bulletin on an intermittent basis. You may find the FTR Bulletins at www.gsa.gov/relo.

3. Add § 302-4.304 to read as follows:

§ 302-4.304 For relocation outside the continental United States (OCONUS), may my agency allow actual expense reimbursement instead of the POV mileage rate for PCS travel?

Yes, for an OCONUS relocation involving POV usage, your agency may allow reimbursement of certain actual expenses of using the POV (i.e., fuel plus the additional expenses listed in § 301-10.304).

[FR Doc. E7-23861 Filed 12-10-07; 8:45 am]

BILLING CODE 6820-14-S